ENVIRONMENTAL PROTECTION AGENCY

[ER-FRL-8995-3]

Environmental Impacts Statements; Notice of Availability

Responsible Agency: Office of Federal Activities, General Information (202) 564-1399 or http://www.epa.gov/compliance/nepa/.

Weekly receipt of Environmental Impact Statements.

Filed 01/31/2011 through 02/04/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110032, Final EIS, BLM, WY, Westside Land Conveyance Project, Congressionally-Mandated Transfer of 16,500 Acres of Public Land to the Westside Irrigation District, Big Horn and Washakie Counties, WY, Review Period Ends: 03/14/2011, Contact: Chris Carlton 307-775-6227.

EIS No. 20110033, Final Supplement, USFS, WY, EIS Title: Bridger-Teton National Forest, Proposal to Determine What Terms and Conditions to Allow Development of Oil and Gas Leasing in the Wyoming Range, Sublette County, WY, Review Period Ends: 03/14/2011, Contact: John Kuzloski 307-739-5568.

EIS No. 20110034, Draft EIS, FHWA, WI, U.S. 41 Improvement Project, Extend from Depere—Suamico (Memorial Drive to County M), Brown County, WI, Comment Period Ends: 03/28/2011, Contact: George Poirier 608-829-7500.

EIS No. 20110035, Draft EIS, USFS, OR, North End Sheep Allotment Project, Proposes to Authorize Grazing Domestic Sheep, Walla Walla Range District of the Umatilla National Forest, Wallowa, Union, and Umatlla Counties, OR, Comment Period Ends: 03/28/2011, Contact: Michael L. Rassbach 509-522-6290.

Amended Notices

EIS No. 20100444, Final EIS, BLM, NV, Tonopah Solar Energy Crescent Dunes Solar Energy Project, a 7,680-Acre Right-of-Way (ROW) on Public Lands to Construct a Concentrated Solar Thermal Power Plant Facility, Nye County, NV, Contact: Julie Ann Smith 202-586-7668. Revision to FR Notice Published 11/19/2010: The U.S. Department of Energy's has adopted the Department of Interior's Bureau of Land Management FEIS #20100444, filed 11/10/2010. DOE was a cooperating agency for the above project. Recirculation of the FEIS is not necessary under 40 CFR 1506.3(c).

Dated: February 8, 2011.
Robert W. Hargrove,
Director, NEPA Compliance Division, Office of Federal Activities.

[FR Doc. 2011-3115 Filed 2-10-11; 8:45 am]

BILLING CODE 6560-50-P